DEPARTMENT OF TRANSPORTATION

Federal Aviation Administration

14 CFR Part 39

[Docket No. FAA-2005-21713; Directorate Identifier 2005-NM-085-AD; Amendment 39-14732; AD 2006-17-11]

RIN 2120-AA64

Airworthiness Directives; Boeing Model 767-400ER Series Airplanes and Model 777-200 and -300 Series Airplanes

AGENCY: Federal Aviation Administration (FAA), Department of Transportation (DOT).

ACTION: Final rule.

SUMMARY: The FAA is adopting a new airworthiness directive (AD) for certain Boeing Model 767-400ER series airplanes and Model 777-200 and -300 series airplanes. This AD requires, for certain airplanes, repetitive testing of the fill and safety fittings of the cargo fire extinguishing bottles in the forward cargo compartment for leaks; and repetitive application of a corrosion inhibiting compound (CIC) or replacement of the cargo fire extinguishing bottles with reworked fire extinguishing bottles, as necessary. For all airplanes, this AD requires replacement of the cargo fire extinguishing bottles with reworked fire extinguishing bottles, which ends the repetitive tests and CIC applications if applicable. This AD results from failure of the safety fittings for the cargo fire extinguishing bottles. We are issuing this AD to prevent failure of the safety fittings for the cargo fire extinguishing bottles due to corrosion, which could result in leakage of extinguishing agent. If a fire occurs in the cargo bay, the cargo fire extinguishing bottles could have less than enough extinguishing agent to control a fire.

DATES: This AD becomes effective September 27, 2006.

The Director of the Federal Register approved the incorporation by reference of certain publications listed in the AD as of September 27, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Barbara Mudrovich, Aerospace Engineer, Cabin Safety and Environmental Systems Branch, ANM-150S, FAA, Seattle Aircraft Certification Office, 1601 Lind Avenue, SW., Renton, Washington 98057-3356; telephone (425) 917-6477; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 767-400ER series airplanes and Model 777-200 and -300 series airplanes. That NPRM was published in the Federal Register on July 5, 2005 (70 FR 38632). That NPRM proposed to require, for certain airplanes, repetitive testing of the fill and safety fittings of the fire extinguishing bottles in the forward cargo compartment for leaks; and repetitive application of a corrosion inhibiting compound (CIC) or replacement of the fire extinguishing bottles with reworked fire extinguishing bottles, as necessary. That NPRM also proposed to require, for all airplanes, replacement of the fire extinguishing bottles with reworked fire extinguishing bottles, which would end the repetitive tests and CIC applications if applicable.

Actions Since NPRM Was Issued

Since we issued the NPRM, Boeing has published Special Attention Service Bulletin 767-26-0124, Revision 1, dated April 13, 2006. We referenced the original issue of that service bulletin, dated December 5, 2002, in the NPRM as the appropriate source of service information for testing the cargo fire extinguishing bottles on Model 767-400ER series airplanes. The procedures in Revision 1 of the service bulletin are essentially the same as those in the original issue. Revision 1 corrects a reference to the Boeing 767 Aircraft Maintenance Manual (AMM), which we noted as a difference in the NPRM. Therefore, we have revised this AD to reference Revision 1 of the service bulletin as the appropriate source of service information for testing the cargo fire extinguishing bottles on Model 767-400ER series airplanes. We have also added a new paragraph (k) to this AD, giving credit for testing done before the effective date of this AD in accordance with the original issue of the service bulletin. We have reidentified the subsequent paragraphs accordingly.

Comments

We provided the public the opportunity to participate in the development of this AD. We have considered the comments received.

Request for Credit for Additional Model Airplanes

Boeing requests that we revise paragraph (j) of the NPRM to include Model 767-400ER series airplanes and Model 777-300 series airplanes. (The NPRM provided credit only for Model 777-200 series airplanes.) As justification, Boeing states that this change will provide credit for all three affected model airplanes, not just the Model 777-200 series airplanes. We infer Boeing would like credit for accomplishment of Boeing Special Attention Service Bulletin 767-26-0124, dated December 5, 2002, for Model 767-400ER series airplanes; and Boeing Special Attention Service Bulletin 777-26-0034, dated January 22, 2004, for Model 777-300 series airplanes.

We agree to provide credit for all Model 767-400ER series airplanes. As stated previously, we have given credit to Model 767-400ER series airplanes in paragraph (k) of this AD.

We agree only to provide credit for certain Model 777-300 series airplanes. Certain Model 777-300 series airplanes were misidentified as Group 1 airplanes in the original issue of Boeing Special Attention Service Bulletin 777-26-0034. Revision 1 of Boeing Service Bulletin 777-26-0034, dated July 1, 2004, states that more work is necessary on Model 777-300 series airplanes if the Group 1 instructions of the original service bulletin were accomplished on those airplanes. However, no additional work is necessary for Model 777-300 series airplanes if the Group 2 instructions of the original service bulletin were accomplished on those airplanes. Therefore, we have revised paragraph (j) of this AD to give credit only for Model 777-300 series airplanes identified as Group 2 in the original issue of the service bulletin. Under the provisions of paragraph (l) of this AD, we may consider requests for approval of an alternative method of compliance (AMOC) if sufficient data are submitted to substantiate that such a method would provide an acceptable level of safety.

Request To Clarify the Affected Fire Extinguishing Bottles

Boeing requests that we specifically refer to “cargo” fire extinguishing bottles in the NPRM. As justification, Boeing states that this will avoid confusion with the fire extinguishing bottles for the engine/auxiliary power unit. We agree and have revised all references accordingly in this AD.

Request To Revise Terminology

Boeing states that the safety disc inside the fill fitting is referred to as “fill and safety fittings,” “safety fittings,” or “burst disc inside the safety fitting” in several paragraphs in the NPRM. Boeing requests that we revise the NPRM to use its preferred terminology of “safety disc inside the fill fitting.”

We agree and have revised the terminology in paragraph (g)(1) of this AD. We point out that we used the term “burst disc inside the safety filling” in the NPRM to match the terminology used in the referenced Boeing and Kidde Aerospace service bulletins for replacing the cargo fire extinguishing bottles. We have continued using the term “fill and safety fittings” in paragraph (g) of this AD as it is specified in the applicable Kidde Aerospace service bulletins.

Request To Revise Model Designation

Boeing also requests that we fix the typographical error for the model designation in the first row of the Estimated Costs table of the NPRM. Boeing states the correct model designation is Model 767-400ER. We agree and have revised the Estimated Costs table in this AD accordingly.

Request To Revise “Discussion” Section

Boeing also requests that we revise the first sentence of the first paragraph in the Discussion section of the NPRM as follows:

We have received a report indicating that failed safety fittings of the fire extinguishing bottles located in the forward lower lobe. * * *.

The commenter also requests that we change the second paragraph of the Discussion section to the following:

The cargo fire extinguishing bottles installed on Model 767-400ER series airplanes are identical to metered cargo fire bottles on the 777-300 series airplanes. Therefore, all of these models are subject to the same unsafe condition.

As justification for the second part of its request, Boeing states that all the cargo fire extinguishing bottles installed on Model 767-400ER series airplanes are identical to one of the bottles that is installed on Model 777-300 series airplanes, but not installed on Model 777-200 series airplanes.

We agree with Boeing's statements. However, the Discussion section of an NPRM is not restated in the AD. Therefore, no change to this AD is necessary in this regard.

Request To Identify the Affected Cargo Fire Extinguishing Bottles

The Modification and Repair Parts Association (MARPA) requests that we include sufficient information to specify the precise applicability of the NPRM. MARPA states that the NPRM relies on certain Boeing and Kidde Aerospace service bulletins that were not incorporated by reference when the NPRM was published in the Federal Register. Since these service bulletins are copyrighted material, MARPA states it cannot determine the precise applicability of the NPRM. We infer the commenter would like us to identify the affected cargo fire extinguishing bottles in this AD.

We do not agree to specify the affected part numbers in this AD. It is our general practice to reference the appropriate service information, since the affected part numbers are clearly specified in that referenced information. Not only does it appear redundant to repeat those part numbers in this AD, but if there was a large number of parts involved, it would increase the risk of error in repeating those part numbers in this AD. However, we are currently in the process of reviewing issues surrounding the posting of service bulletins on the Department of Transportation's Docket Management System (DMS) as part of an AD docket. Once we have thoroughly examined all aspects of this issue and have made a final determination, we will consider whether our current practice needs to be revised. However, we consider that to delay this AD action would be inappropriate, since we have determined that an unsafe condition exists and that replacement of certain parts must be accomplished to ensure continued safety. Therefore, no change has been made to this AD in this regard.

Request To Reference Parts Manufacturer Approval (PMA) Parts

MARPA also requests that we add language to the NPRM to account for the possible existence of alternative PMA equivalent parts. MARPA states that, under 14 CFR 21.303, there may be PMA parts that should also be affected by the NPRM. As justification, MARPA states that some PMA parts appear to be similar to the affected parts addressed in the NPRM, and that further research should be conducted to ensure that all affected parts are included in the NPRM. MARPA further states that there may also be PMA parts equivalent to the “new and improved” replacement parts specified in the NPRM.

We concur with MARPA's general request that, if we know that an unsafe condition also exists in PMA parts, the AD should address those parts, as well as the original parts. At this time, we are not aware of other PMA parts equivalent to the affected cargo fire extinguishing bottles.

Furthermore, we infer that MARPA would like the AD to permit installation of any equivalent PMA parts so that it is not necessary for an operator to request approval of an AMOC in order to install an “equivalent” PMA part. Whether an alternative part is “equivalent” in adequately resolving the unsafe condition can only be determined on a case-by-case basis, based on a complete understanding of the unsafe condition. We are not currently aware of any such parts. Our policy is that, in order for operators to replace a part with one that is not specified in the AD, they must request an AMOC. This is necessary so that we can make a specific determination that an alternative part is or is not susceptible to the same unsafe condition.

MARPA's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, no change has been made to this AD in this regard.

Request To Delete Difference Paragraph

Boeing states that it intends to publish Revision 1 to Boeing Special Attention Service Bulletin 767-26-0124 to correct the reference to the AMM, which we identified as a difference in the NPRM. Boeing also states that Revision 1 is currently being routed for approval. We infer the commenter would like us to delete the difference paragraph. We disagree, since the difference paragraph is not restated in this AD. Since we have already revised this AD to reference Revision 1 of the service bulletin, as described previously, no additional change to this AD is necessary.

Request To Revise the Costs of Compliance Paragraph

American Airlines states that the total cost for testing the cargo fire extinguishing bottles as specified in Boeing Special Attention Service Bulletin 777-26-0033, dated December 5, 2002, is $5,460, per test cycle. The commenter also states that the total cost for replacing the cargo fire extinguishing bottles as specified in Boeing Service Bulletin 777-26-0034, Revision 1, dated July 1, 2004, is $287,573. We infer that American Airlines would like us to revise the Costs of Compliance paragraph.

We disagree. The cost information in an AD describes only the direct costs of the specific actions required by the AD. Based on the best data available, the manufacturer provided the number of work hours necessary to do the required actions. This number represents the time necessary to perform only the actions actually required by this AD. We recognize that, in doing the actions required by an AD, operators may incur incidental costs in addition to the direct costs. The cost analysis in AD rulemaking actions, however, typically does not include incidental costs such as the time required to gain access and close up, time necessary for planning, or time necessitated by other administrative actions. Those incidental costs, which may vary significantly among operators, are almost impossible to calculate. Therefore, no change has been made to this AD in this regard.

Clarification of AMOC Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 322 airplanes of the affected design in the worldwide fleet. This AD affects about 167 airplanes of U.S. registry. The following table provides the estimated costs, at an average labor rate of $65 per hour, for U.S. operators to comply with this AD.

Estimated Costs
Airplanes | Action | Work hours | Parts | Cost per airplane | Number of U.S.-registered airplanes | Fleet cost
Model 767-400ER series airplanes (for all 4 cargo fire extinguishing bottles) | Leak test, per test cycle | 4 | None | $260, per test cycle | 36 | $9,360, per test cycle.
| Replacement | 8 | $2,800 | $3,320 | 36 | $119,520.
Model 777-200 and -300 series airplanes (for all 5 cargo fire extinguishing bottles) | Leak test, per test cycle | 5 | None | $325, per test cycle | 130 | $42,250, per test cycle.
| Replacement | 10 | $3,400 | $4,050 | 131 | $530,550.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority : 49 U.S.C. 106(g), 40113, 44701.

§ 39.13 [Amended]

2. The Federal Aviation Administration (FAA) amends § 39.13 by adding the following new airworthiness directive (AD):

2006-17-11 Boeing: Amendment 39-14732. Docket No. FAA-2005-21713; Directorate Identifier 2005-NM-085-AD.

Effective Date

(a) This AD becomes effective September 27, 2006.

Affected ADs

(b) None.

Applicability

(c) This AD applies to the airplanes listed in Table 1 of this AD, certificated in any category:

Table 1.—Applicability
Boeing Model— | As Identified in—
767-400ER series airplanes | Boeing Special Attention Service Bulletin 767-26-0125, dated January 22, 2004.
777-200 and -300 series airplanes | Boeing Service Bulletin 777-26-0034, Revision 1, dated July 1, 2004.

Unsafe Condition

(d) This AD was prompted by failure of the safety fittings for the cargo fire extinguishing bottles. We are issuing this AD to prevent failure of the safety fittings for the cargo fire extinguishing bottles due to corrosion, which could result in leakage of extinguishing agent. If a fire occurs in the cargo bay, the cargo fire extinguishing bottles could have less than enough extinguishing agent to control a fire.

Compliance

(e) You are responsible for having the actions required by this AD performed within the compliance times specified, unless the actions have already been done.

Service Bulletin References

(f) The term “service bulletin,” as used in this AD, means the Accomplishment Instructions of the service bulletins identified in Table 2 of this AD, as applicable:

Table 2.—Service Bulletin References
For model— | Boeing— | For the—
767-400ER series airplanes | Special Attention Service Bulletin 767-26-0124, Revision 1, dated April 13, 2006 | Test specified in paragraph (g) of this AD.
| Special Attention Service Bulletin 767-26-0125, dated January 22, 2004 | Replacement specified in paragraph (h) of this AD.
777-200 and -300 series airplanes | Special Attention Service Bulletin 777-26-0033, dated December 5, 2002 | Test specified in paragraph (g) of this AD.
| Service Bulletin 777-26-0034, Revision 1, dated July 1, 2004 | Replacement specified in paragraph (h) of this AD.

Repetitive Testing of Cargo Fire Extinguishing Bottles

(g) For all Model 767-400ER series airplanes; and the Model 777-200 and -300 series airplanes identified in Boeing Special Attention Service Bulletin 777-26-0033, dated December 5, 2002: Within 18 months or 6,000 flight hours after the effective date of this AD, whichever is first, test the fill and safety fittings of the cargo fire extinguishing bottles in the forward cargo compartment for leaks, in accordance with the applicable service bulletin. Repeat the test thereafter at intervals not to exceed 18 months or 6,000 flight hours, whichever is first, in accordance with the service bulletin, until the replacement required by paragraph (h) of this AD is accomplished.

(1) If no leak is found or if the leak rate is below the calibrated rate specified in the service bulletin, before further flight, apply the corrosion inhibiting compound (CIC) to the safety disc inside the fill fitting and reidentify the cargo fire extinguishing bottle, in accordance with the applicable service bulletin.

(2) If any leak above the calibrated rate specified in the service bulletin is found, before further flight, replace and reidentify the cargo fire extinguishing bottle with new or reworked fire extinguishing bottles, in accordance with the applicable service bulletin; except where the service bulletin specifies that the replacement may be accomplished according to an operator's “equivalent procedure,” replace in accordance with a method approved by the Manager, Seattle Aircraft Certification Office (ACO), FAA. Chapter 26-23-02/401 of the Boeing 767 Aircraft Maintenance Manual (AMM) or Chapter 26-23-01/401 of the Boeing 777 AMM, as applicable, is one approved method.

Note 1: The Boeing service bulletins listed in Table 3 of this AD refer to certain Kidde Aerospace service bulletins, as applicable, as additional sources of service information for testing and reidentifying the cargo fire extinguishing bottles.

Table 3.—Additional Service Information for Testing
For model— | Boeing Special Attention Service Bulletin— | Refers to Kidde Aerospace Service Bulletin—
767-400ER series airplanes | 767-26-0124, Revision 1, dated April 13, 2006 | 473876-26-454. Revision 1, dated March 12, 2003, is the latest version of this service bulletin.
777-200 and -300 series airplanes | 777-26-0033, dated December 5, 2002 | 473474-26-442. Revision 1, dated March 12, 2003, is the latest version of this service bulletin.
|  | 473475-26-443. Revision 1, dated March 12, 2003, is the latest version of this service bulletin.
|  | 473854-26-444. Revision 1, dated March 12, 2003, is the latest version of this service bulletin.
|  | 473876-26-445. Revision 1, dated March 12, 2003, is the latest version of this service bulletin.

Replacement of Cargo Fire Extinguishing Bottles

(h) For all airplanes: Within 60 months after the effective date of this AD, replace the existing cargo fire extinguishing bottles with reworked fire extinguishing bottles, in accordance with the applicable service bulletin. Replacement of a cargo fire extinguishing bottle with a reworked fire extinguishing bottle terminates the repetitive tests and CIC applications required by paragraph (g) of this AD for that fire extinguishing bottle only.

Note 2: The Boeing service bulletins listed in Table 4 of this AD refer to certain Kidde Aerospace service bulletins, as applicable, as additional sources of service information for reworking the cargo fire extinguishing bottles.

Table 4.—Additional Service Information for Replacement
For model— | Boeing— | Refers to Kidde Aerospace Service Bulletin—
767-400ER series airplanes | Special Attention Service Bulletin 767-26-0125, dated January 22, 2004 | 473876-26-453, dated January 22, 2004.
777-200 and -300 series airplanes | Service Bulletin 777-26-0034, Revision 1, dated July 1, 2004 | 473474-26-450, dated January 22, 2004.
|  | 473475-26-451, dated January 22, 2004.
|  | 473854-26-452, dated January 22, 2004.
|  | 473876-26-453, dated January 22, 2004.

Parts Installation

(i) For all airplanes: As of the effective date of this AD, no person may install a cargo fire extinguishing bottle, part numbers (P/Ns) 473474-1 and -2, P/Ns 473475-1 and -2,P/Ns 473854-1 and -2, or P/Ns 473876-1 and -2, on any airplane, unless the initial test required by paragraph (g) of this AD is accomplished.

Credit for Previous Service Bulletins

(j) For all Model 777-200 series airplanes; and Model 777-300 series airplanes identified as Group 2 in Boeing Special Attention Service Bulletin 777-26-0034, dated January 22, 2004: Actions done before the effective date of this AD in accordance with Boeing Special Attention Service Bulletin 777-26-0034, dated January 22, 2004, are acceptable for compliance with the corresponding requirements of this AD.

(k) For all Model 767-400ER series airplanes: Actions done before the effective date of this AD in accordance with Boeing Special Attention Service Bulletin 767-26-0124, dated December 5, 2002, are acceptable for compliance with the corresponding requirements of this AD.

Alternative Methods of Compliance (AMOCs)

(l)(1) The Manager, Seattle ACO, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(m) You must use the service information in Table 5 of this AD to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 5.—Material Incorporated by Reference
Service Bulletin | Revision level | Date
Boeing Service Bulletin 777-26-0034 | 1 | July 1, 2004.
Boeing Special Attention Service Bulletin 767-26-0124 | 1 | April 13, 2006.
Boeing Special Attention Service Bulletin 767-26-0125 | Original | January 22, 2004.
Boeing Special Attention Service Bulletin 777-26-0033 | Original | December 5, 2002.

Issued in Renton, Washington, on August 10, 2006.
Kalene C. Yanamura,
Acting Manager, Transport Airplane Directorate, Aircraft Certification Service.

[FR Doc. E6-13825 Filed 8-22-06; 8:45 am]

BILLING CODE 4910-13-P